BUREAU OF CONSUMER FINANCIAL PROTECTION

12 CFR Part 1005

[Docket No. CFPB-2011-0009]

RIN 3170-AA15

Electronic Fund Transfers (Regulation E); Correction

AGENCY: Bureau of Consumer Financial Protection.

ACTION: Final rule; official interpretation; correction.

SUMMARY: The Bureau of Consumer Financial Protection (Bureau) is correcting a final rule with an official interpretation (Final Rule) that appeared in the Federal Register of February 7, 2012. The Final Rule provides new protections, including disclosures and error resolution and cancellation rights, to consumers who send remittance transfers to other consumers or businesses in a foreign country. The Final Rule inadvertently did not reflect certain technical and conforming changes made by the interim final rule published on December 27, 2011. The Final Rule also contained a technical error in the formatting of certain model forms. This document corrects the error and the formatting of the model forms.

DATES: These corrections are effective February 7, 2013.

FOR FURTHER INFORMATION CONTACT: Stephen Shin or Krista Ayoub, Senior Counsels, Division of Research, Markets, and Regulations, Bureau of Consumer Financial Protection, 1700 G Street NW., Washington, DC 20552, at (202) 435-7000.

SUPPLEMENTARY INFORMATION:

I. Overview

On Tuesday, February 7, 2012, the Bureau published the Final Rule (77 FR 6194), which implements the Electronic Fund Transfer Act, and the official interpretation to the regulation, which interprets the requirements of Regulation E. The Final Rule provides new protections, including disclosures and error resolution and cancellation rights, to consumers who send remittance transfers to other consumers or businesses in a foreign country. The amendments implement statutory requirements set forth in the Dodd-Frank Wall Street Reform and Consumer Protection Act.

The Final Rule inadvertently did not reflect certain technical and conforming changes made to § 1005.3(a) in the interim final rule published on December 27, 2011 (76 FR 81020). The interim final rule substantially duplicated the Board of Governors of the Federal Reserve System's Regulation E, and made only certain non-substantive, technical, and stylistic changes necessary to reflect the transfer of authority to the Bureau. This correction will remove the amendment the Final Rule made to § 1005.3(a) of the interim final rule.

The Final Rule also contained a technical error in the formatting of certain model forms. Instead of each form being published on separate pages, certain forms were published in the standard three-column format. To correct this error, this document republishes the model forms as full-page versions.

II. Basis for the Corrections

The Bureau is publishing this technical correction as a final rule that will be effective on the same date as the Final Rule. The Bureau finds that there is good cause to publish this Final Rule without seeking public comment. See 5 U.S.C. 553(b)(B). Public comment is unnecessary because the rule corrects inadvertent, technical errors about which there is minimal, if any, basis for substantive disagreement. In addition, the Final Rule restores changes made to § 1005.3(a) in the interim final rule, Electronic Fund Transfers (Regulation E), published on December 27, 2011 (76 FR 81020) for which the Bureau found good cause to conclude that providing notice and opportunity for comment would have been unnecessary and contrary to the public interest but for which the Bureau nevertheless requested public comment.

In FR Doc. 2012-1728 appearing on page 6194 in the Federal Register on Tuesday, February 7, 2012, the following corrections are made:

1. On page 6285, in the second column, in Subpart A, § 1005.3(a) is corrected to read as follows:

§ 1005.3 Coverage.

(a) General. This part applies to any electronic fund transfer that authorizes a financial institution to debit or credit a consumer's account. Generally, this part applies to financial institutions. For purposes of §§ 1005.3(b)(2) and (3), 1005.10(b), (d), and (e), 1005.13, and 1005.20, this part applies to any person, other than a person excluded from coverage of this part by section 1029 of the Consumer Financial Protection Act of 2010, Title X of the Dodd-Frank Wall Street Reform and Consumer Protection Act, Pub. L. 111-203, 124 Stat. 1376. The requirements of subpart B apply to remittance transfer providers.

* * * * *

2. On page 6290 through 6297, in Appendix A to Part 1005, Model Forms A-30 through A-41 are corrected to read as follows:

Appendix A to Part 1005—Model Disclosure Clauses and Forms

BILLING CODE 4810-AM-P

Dated: June 26, 2012.
Richard Cordray,
Director, Bureau of Consumer Financial Protection.

[FR Doc. 2012-16245 Filed 7-9-12; 8:45 am]

BILLING CODE 4810-AM-C